NATIONAL CREDIT UNION ADMINISTRATION

Agency Information Collection Activities: Proposed Collection; Comment Request

AGENCY: National Credit Union Administration (NCUA).

ACTION: Notice and request for comment.

SUMMARY: The National Credit Union Administration (NCUA), as part of a continuing effort to reduce paperwork and respondent burden, invites the general public and other Federal agencies to comment on the following extensions of currently approved collections, as required by the Paperwork Reduction Act of 1995.

DATES: Written comments should be received on or before April 20, 2020 to be assured consideration.

ADDRESSES: Interested persons are invited to submit written comments on the information collection to Mackie Malaka, National Credit Union Administration, 1775 Duke Street, Suite 6032, Alexandria, Virginia 22314; Fax No. 703-519-8579; or Email at PRAComments@NCUA.gov.

FOR FURTHER INFORMATION CONTACT: Address requests for additional information to Mackie Malaka at the address above or telephone 703-548-2704.

SUPPLEMENTARY INFORMATION:

OMB Number: 3133-0092.

Title: Loans to Members and Lines of Credit to Members, 12 CFR 701.21 and Appendix B to 741.

Type of Review: Extension of a currently approved collection.

Abstract: Section 107(5) of the Federal Credit Union Act authorizes Federal Credit Unions (FCU) to make loans to members and issue lines of credit (including credit cards) to members. Section 701.21 governs the requirements related to loans to members and lines of credit to members for FCUs. Additionally, Part 741 established requirements for all federally insured credit unions (both Federal and state charters) related to loans to members and lines of credit union members. NCUA reviews the information collections to ensure compliance with applicable regulations and laws, and to assess the safety and soundness of the credit union's lending program.

Affected Public: Private Sector: Not-for-profit institutions.

Estimated No. of Respondent: 5,236.

Estimated No. of Responses per Respondent: 4.11.

Estimated Total Annual Responses: 21,534.

Estimated Burden Hours per Response: 1.

Estimated Total Annual Burden Hours: 21,534.

Reason for Change: Adjustment have been made to the number of respondents to reflect the current number of credit unions reporting. The time per response has been corrected to reflect only that burden required to retain/maintain the records under the PRA.

OMB Number: 3133-0101.

Title: Member Business Loans; Commercial Lending, 12 CFR 723.

Type of Review: Extension of a currently approved collection.

Abstract: As part of NCUA's Regulatory Modernization Initiative, the NCUA Board amended Part 723 to provide federally insured credit unions with greater flexibility and individual autonomy in safely and soundly providing commercial and business loans to serve their members. The rule modernizes the regulatory requirements that govern credit union commercial lending activities by replacing the current rule's prescriptive requirement and limitations with a broad principles-based regulatory approach.

Affected Public: Private Sector: Not-for-profit institutions.

Estimated No. of Respondents: 1,828.

Estimated No. of Responses per Respondent: 1.

Estimated Total Annual Responses: 1.828.

Estimated Burden Hours per Response: 2.

Estimated Total Annual Burden Hours: 3,656.

Reason for Change: Adjustment have been made to the number of respondents to reflect the current number of credit unions reporting. The time per response has been corrected to reflect only information collection requirements associated with retaining and maintaining the written policies and procedures prescribed by 723. Additional recordkeeping requirements not previously reported have been captured.

OMB Number: 3133-0152.

Title: Management Official Interlocks, 12 CFR 711.

Type of Review: Extension of a currently approved collection.

Abstract: NCUA requires this information collection to ensure federally insured credit unions comply with NCUA's Management Official Interlocks regulation at 12 CFR part 711, implementing the Depository Institution Management Interlocks Act (“Interlocks Act”) (12 U.S.C. 3201-3208). The Interlocks Act generally prohibits financial institutions management officials from serving simultaneously with two unaffiliated depository institutions or their holding companies. For credit unions, the Interlocks Act restricts interlocks only between credit unions and other financial institutions, such as banks and their holding companies. The information collection requirements of this part covers interlock relationships permitted by statute.

Affected Public: Private Sector: Not-for-profit institutions.

Estimated No. of Respondents: 2.

Estimated No. of Responses per Respondent: 1.

Estimated Total Annual Responses: 2.

Estimated Burden Hours per Response: 3.

Estimated Total Annual Burden Hours: 6.

OMB Number: 3133-0140.

Title: Secondary Capital for Low-Income Designated Credit Unions, 12 CFR 701.34(b).

Type of Review: Extension of a currently approved collection.

Abstract: Section 701.34 (b) of NCUA's regulations provide that designated low-income credit unions (LICU) may accept secondary capital under certain conditions. For those LICUs wishing to exercise their option to access secondary capital, NCUA requires that credit unions accepting secondary capital must develop and submit a plan for its acquisition, use, and repayment. The information is used by NCUA to determine if the secondary capital will be managed by the credit union without risk to its financial condition, the U.S. government, or the National Credit Union Share Insurance Fund. This collection of information is necessary to obtain the information needed to ensure compliance with requirements related to acceptance and management of secondary capital.

Affected Public: Private Sector: Not-for-profit institutions.

Estimated No. of Respondents: 30.

Estimated No. of Responses per Respondent: 2.

Estimated Total Annual Responses: 60.

Estimated Burden Hours per Response: 18.38.

Estimated Total Annual Burden Hours: 1,103.

Reason for Change: Adjustment has been made to reflect a recordkeeping requirement not previously reported.

OMB Number: 3133-0196.

Title: Contractor's Diversity Profile.

Type of Review: Extension of a currently approved collection.

Abstract: On January 2011, NCUA created the Office of Minority and Women Inclusion (OMWI), as mandated by sec. 342 of the Dodd-Frank Wall Street Reform and Consumer Protection Act (“Act”) (Pub. L. 111-203). As prescribed by sec. 342(c) of the Act, OMWIs shall develop and implement standards and procedures to ensure the fair inclusions and utilization of minorities, women, and minority-owned and women-owned business in all business and activities of the agency at all levels, including in procurement, insurance, and all types of contracts. As a result, NCUA developed the Contractor Profile form to be completed by a contractor to ensure the fair inclusion and utilization of minorities and women in the workforce of the contractor and, as applicable, subcontractor. The Contractor Profile form includes a series of questions covering a contractor's, and, as applicable, a subcontractor's diversity strategies, policies, recruitment, succession planning, and outreach. The information provided is used by NCUA to determine if good faith efforts are met and to fulfill statutory requirements of the Act. Determinations are valid for a two-year period.

Affected Public: Private Sector: Not-for-profit institutions.

Estimated No. of Respondents: 40.

Estimated No. of Responses per Respondent: 1.

Estimated Total Annual Responses: 40.

Estimated Burden Hours per Response: 0.75.

Estimated Total Annual Burden Hours: 30.

Reason for Change: Adjustments are attributed to current updated data since the last previous submission.

Request for Comments: Comments submitted in response to this notice will be summarized and included in the request for Office of Management and Budget approval. All comments will become a matter of public record. The public is invited to submit comments concerning: (a) Whether the collection of information is necessary for the proper execution of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By Gerard Poliquin, Secretary of the Board, the National Credit Union Administration, on February 14, 2020.
Dated: February 14, 2020.
Mackie I. Malaka,
NCUA PRA Clearance Officer.

[FR Doc. 2020-03360 Filed 2-19-20; 8:45 am]

BILLING CODE 7535-01-P